DEPARTMENT OF COMMERCE

International Trade Administration

[A-475-838]

Certain Cold Drawn Mechanical Tubing of Carbon and Alloy Steel From Italy: Partial Rescission of Antidumping Duty Administrative Review; 2017-2019

AGENCY: Enforcement and Compliance, International Trade Administration, Department of Commerce.

SUMMARY: The Department of Commerce (Commerce) is partially rescinding its administrative review of the antidumping duty order on certain cold drawn mechanical tubing of carbon and alloy steel (cold drawn mechanical tubing) from Italy for the period of review November 22, 2017, through May 31, 2019.

DATES: Applicable November 4, 2019.

FOR FURTHER INFORMATION CONTACT: Robert Scully or Emily Halle, AD/CVD Operations, Office V, Enforcement and Compliance, International Trade Administration, U.S. Department of Commerce, 1401 Constitution Avenue NW, Washington, DC 20230; telephone: (202) 482-0572 or (202) 482-0176 respectively.

SUPPLEMENTARY INFORMATION:

Background

On June 3, 2019, Commerce published in the Federal Register a notice of “Opportunity to Request an Administrative Review” of the antidumping duty (AD) order on cold drawn mechanical tubing from Italy for the period November 22, 2017, through May 31, 2019.¹ On July 29, 2019, in accordance with section 751(a) of the Tariff Act of 1930, as amended (the Act), and 19 CFR 351.221(c)(1)(i), Commerce initiated an administrative review of the AD order on cold drawn mechanical tubing from Italy with respect to seven companies.² On October 8, 2019, ArcelorMittal Tubular Products LLC, Michigan Seamless Tube, LLC, PTC Alliance Corp., and Webco Industries, Inc.(collectively, the petitioners), timely withdrew their requests for an administrative review of all six companies for which they had requested a review.³

¹ See Antidumping or Countervailing Duty Order, Finding or Suspended Investigation; Opportunity to Request Administrative Review, 84 FR 25521 (June 3, 2019).

² See Initiation of Antidumping and Countervailing Duty Administrative Reviews, 84 FR 36572 (July 29, 2019).

³ See Petitioner's Letter “Cold-Drawn Mechanical Tubing from Italy—Domestic Industry's Withdrawal of Request for First Administrative Review.” Dated October 8, 2019.

Partial Rescission

Pursuant to 19 CFR 351.213(d)(1), Commerce will rescind an administrative review, in whole or in part, if the party that requested the review withdraws its request within 90 days of the publication date of the notice of initiation of the requested review. The petitioners timely withdrew their review requests for six companies. Because Commerce received no other requests for review of these six companies for which a review was initiated, we are rescinding the review of cold drawn mechanical tubing from Italy for the period November 22, 2017, through May 31, 2019, in part, with respect to these six companies, in accordance with 19 CFR 351.213(d)(1). These six companies are: Alessio Tubi S.p.A, Arvedi Tubi Acciaio S.p.A, Italsempione S.p.A, Marcegaglia Novero S.p.A, Metalfer, S.p.A, and Pipex Italia S.p.A. The review will continue with respect to Dalmine S.p.A.

Assessment

Commerce will instruct U.S. Customs and Border Protection (CBP) to assess antidumping duties on all appropriate entries. For the companies for which this review is rescinded, antidumping duties shall be assessed at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Order

This notice also serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751 and 777(i)(l) of the Act and 19 CFR 351.213(d)(4).

Dated: October 29, 2019.
James Maeder,
Deputy Assistant Secretary for Antidumping and Countervailing Duty Operations.

[FR Doc. 2019-24036 Filed 11-1-19; 8:45 am]

BILLING CODE 3510-DS-P